DEPARTMENT OF THE INTERIOR

Geological Survey

Climate Change Science Program Committee for Synthesis and Assessment Product 1.2: Past Climate Variability and Change in the Arctic and at High Latitudes

AGENCY: U.S. Geological Survey, DOI.

ACTION: Notice of meeting.

SUMMARY: The USGS-CCSP Committee for Synthesis and Assessment Product 1.2: Past Climate Variability and Change in the Arctic and at High Latitudes will meet in the Hampton Inn in Lakewood, Colorado on July 12-13, 2007.

Agenda: The goal of the meeting is to produce a detailed outline of the structure of the Synthesis and Assessment Product and to identify key areas of input and to create a list of potential contributing authors for these areas. Records under consideration will include, but not necessarily be limited to, paleo-records from tree rings, ice cores, lake sediments, pollen records, distributions of marine and terrestrial organisms as well as isotopic indicators measured on them, and the temporal evolution of terrestrial depositional and erosional environments. The agenda will focus on the key topics of the past record of change in Arctic sea ice extent, in the status of the Greenland ice sheet, paleo-temperature and paleo-precipitation records, and past intervals of rapid climate change. The meeting is open to the public at the times listed below. Pre-registration is required to attend. Contact the Designated Federal Officer (DFO) at the address given below by July 9, 2007 to pre-register and receive a copy of the meeting agenda. Public involvement in the meeting is encouraged. Prepared statements may be presented orally to the Committee on Thursday, July 12, 2007 between 11 a.m. and noon. Public statements will be limited to 3 minutes per person. For scheduling reasons, intent to make a public statement must be established at the time of pre-registration. A written copy of the oral statement must be left with the Committee's DFO at the workshop as a matter of public record. Open discussions will accompany each formal session of the workshop. Short public comments/questions will be allowed if time permits. Seating will be available on a first come, first served basis. Please check the Synthesis and Assessment Product 1.2 Web page at CCSP (http://www.climatescience.gov/Library/sap/sap 1-2/default.php) for any last minute changes to the meeting time, date, location or agenda.

Meeting Dates and Times

Thursday, July 12, 2007: 11 a.m.-12 p.m. (public comments); 1:15 p.m.-5 p.m.

Friday, July 13, 2007: 8 a.m.-12 p.m.; 1 p.m.-5 p.m.

Meeting Address

Ponderosa Room, Hampton Inn, 137 Union Boulevard, Lakewood, CO 80228.

FOR FURTHER INFORMATION AND TO PRE-REGISTER CONTACT: Joan J. Fitzpatrick, U.S. Geological Survey, MS-980, Box 25046, DFC, Denver, CO 80225, (303) 236-7881, jfitz@usgs.gov.

Thomas R. Armstrong,
Senior Advisor, Global Change Programs, U.S. Geological Survey.

[FR Doc. 07-3161 Filed 6-27-07; 8:45 am]

BILLING CODE 4311-AM-M